NUCLEAR REGULATORY COMMISSION

10 CFR Part 72

RIN 3150-AG58

List of Approved Spent Fuel Storage Casks: HI-STAR 100 Revision

AGENCY: Nuclear Regulatory Commission.

ACTION: Proposed rule.

SUMMARY: The Nuclear Regulatory Commission (NRC) is proposing to amend its regulations revising the Holtec International HI-STAR 100 cask system listing within the “List of approved spent fuel storage casks” to include Amendment No. 1 to the Certificate of Compliance (CoC). Amendment No. 1 revises the HI-STAR 100 cask system in seven areas and includes changes to the CoC and Technical Specifications. The seven areas involve: revision of the existing fuel specification tables; addition of pressurized water reactor Burnable Poison Rod Assemblies and Thimble Plug Devices; addition of two new classes of fuel to the fuel specification tables; addition of a new damaged fuel container; addition of thoria rods in canisters; addition of antimony-beryllium neutron sources [i.e., reactor startup sources], and clarifications, editorial corrections, and other minor changes to cask design information and drawings. The CoC was revised to require users to prepare written acceptance tests and a maintenance program consistent with the technical basis described in the Safety Analysis Report (SAR). In addition, the amendment includes two minor changes to the HI-STAR 100 listing in the regulations. This amendment will allow the holders of power reactor operating licenses to store spent fuel in the HI-STAR 100 cask system, as amended, under a general license.

DATES: Comments on the proposed rule must be received on or before November 13, 2000.

ADDRESSES: Submit comments to: Secretary, U.S. Nuclear Regulatory Commission, Washington, DC 20555-0001. Attention: Rulemakings and Adjudications Staff.

Deliver comments to 11555 Rockville Pike, Rockville, Maryland, between 7:30 a.m. and 4:15 p.m. on Federal workdays.

You may also provide comments via the NRC's interactive rulemaking website (http://ruleforumllnl.gov). This site provides the capability to upload comments as files (any format), if your web browser supports that function. For information about the interactive rulemaking website, contact Ms. Carol Gallagher, (301) 415-5905 (e-mail: cag@nrc.gov).

Certain documents related to this rule, including comments received by the NRC, may be examined through September 21, 2000 at the NRC Public Document Room, 2120 L Street, NW (Lower Level), Washington, DC. Beginning September 26, 2000 the NRC Public Document Room will be located at 11555 Rockville Pike, Rockville, MD. These documents also may be viewed and downloaded electronically via the rulemaking website.

Documents created or received at the NRC after November 1, 1999, are also available electronically at the NRC's Public Electronic Reading Room on the Internet at http://www.nrc.gov/NRC/ADAMS/index.html. From this site, the public can gain entry into the NRC's Agencywide Document Access and Management System (ADAMS), that provides text and image files of the NRC's public documents. An electronic copy of the proposed CoC and preliminary safety evaluation report (SER) can be found under ADAMS Accession No. ML003726991. For more information, contact the NRC Public Document Room reference staff at 1-800-397-4209, 202-634-3273 or by email to pdr@nrc.gov.

FOR FURTHER INFORMATION CONTACT: Gordon Gundersen, telephone (301) 415-6195, e-mail GEG1@nrc.gov of the Office of Nuclear Material Safety and Safeguards, U.S. Nuclear Regulatory Commission, Washington, DC 20555-0001.

SUPPLEMENTARY INFORMATION: For additional information see the Direct Final Rule published in the final rules section of this Federal Register.

Procedural Background

Because NRC considers this action noncontroversial and routine, we are publishing this proposed rule concurrently with a direct final rule. The direct final rule will become effective on December 26, 2000. However, if the NRC receives significant adverse comments on the direct final rule by November 13, 2000, then the NRC will publish a document to withdraw the direct final rule. If the direct final rule is withdrawn, the NRC will address the comments received in response to the revisions in a subsequent final rule. Absent significant modifications to the proposed revisions requiring republication, the NRC will not initiate a second comment period for this action if the direct final rule is withdrawn.

List of Subjects in 10 CFR Part 72

Criminal penalties, Manpower training programs, Nuclear materials, Occupational safety and health, Reporting and recordkeeping requirements, Security measures, Spent fuel.

For the reasons set out in the preamble and under the authority of the Atomic Energy Act of 1954, as amended; the Energy Reorganization Act of 1974, as amended; and 5 U.S.C. 553; the NRC is proposing to adopt the following amendments to 10 CFR Part 72.

PART 72—LICENSING REQUIREMENTS FOR THE INDEPENDENT STORAGE OF SPENT NUCLEAR FUEL AND HIGH-LEVEL RADIOACTIVE WASTE

1. The authority citation for Part 72 continues to read as follows:

Authority: Secs. 51, 53, 57, 62, 63, 65, 69, 81, 161, 182, 183, 184, 186, 187, 189, 68 Stat. 929, 930, 932, 933, 934, 935, 948, 953, 954, 955, as amended, sec. 234, 83 Stat. 444, as amended (42 U.S.C. 2071, 2073, 2077, 2092, 2093, 2095, 2099, 2111, 2201, 2232, 2233, 2234, 2236, 2237, 2238, 2282); sec. 274, Pub. L. 86-373, 73 Stat. 688, as amended (42 U.S.C. 2021); sec. 201, as amended, 202, 206, 88 Stat. 1242, as amended, 1244, 1246 (42 U.S.C. 5841, 5842, 5846); Pub. L. 95-601, sec. 10, 92 Stat. 2951 as amended by Pub. L. 10d-48b, sec. 7902, 10b Stat. 31b3 (42 U.S.C. 5851); sec. 102, Pub. L. 91-190, 83 Stat. 853 (42 U.S.C. 4332); secs. 131, 132, 133, 135, 137, 141, Pub. L. 97-425, 96 Stat. 2229, 2230, 2232, 2241, sec. 148, Pub. L. 100-203, 101 Stat. 1330-235 (42 U.S.C. 10151, 10152, 10153, 10155, 10157, 10161, 10168).

Section 72.44(g) also issued under secs. 142(b) and 148(c), (d), Pub. L. 100-203, 101 Stat. 1330-232, 1330-236 (42 U.S.C. 10162(b), 10168(c),(d)). Section 72.46 also issued under sec. 189, 68 Stat. 955 (42 U.S.C. 2239); sec. 134, Pub. L. 97-425, 96 Stat. 2230 (42 U.S.C. 10154). Section 72.96(d) also issued under sec. 145(g), Pub. L. 100-203, 101 Stat. 1330-235 (42 U.S.C. 10165(g)). Subpart J also issued under secs. 2(2), 2(15), 2(19), 117(a), 141(h), Pub. L. 97-425, 96 Stat. 2202, 2203, 2204, 2222, 2244, (42 U.S.C. 10101, 10137(a), 10161(h)). Subparts K and L are also issued under sec. 133, 98 Stat. 2230 (42 U.S.C. 10153) and sec. 218(a), 96 Stat. 2252 (42 U.S.C. 10198).

2. In § 72.214, Certificate of Compliance 1008 is revised to read as follows:

§ 72.214 List of approved spent fuel storage casks.

* * * * *

Certificate Number: 1008

Initial Certificate Effective Date: October 4, 1999

Amendment Number 1 Effective Date: December 26, 2000.

SAR Submitted by: Holtec International

SAR Title: Final Safety Analysis Report for the HI-STAR 100 Cask System

Docket Number: 72-1008

Certificate Expiration Date: October 4, 2019

Model Number: HI-STAR 100

* * * * *

Dated at Rockville, Maryland, this 20th day of September 2000.
For the Nuclear Regulatory Commission.
Frank J. Miraglia, Jr.,
Acting Executive Director for Operations.

[FR Doc. 00-25914 Filed 10-10-00; 8:45 am]

BILLING CODE 7590-01-P